DEPARTMENT OF ENERGY

Federal Energy Regulatory Commission

[Project No. 2651-006 Indiana]

Indiana Michigan Power Company; Notice of Availability of Final Environmental Assessment

December 5, 2000.

In accordance with the National Environmental Policy Act of 1969 and the Federal Energy Regulatory Commission's (Commission) regulations, 18 CFR Part 380 (Order No. 486, 52 FR 47897), the Office of the Energy Projects has reviewed the application for a new license for the Elkhart Hydroelectric Project, and has prepared a final environmental assessment (FEA). The project is located on the St. Joseph River in the City of Elkhart and Elkhart County, Indiana.

On April 10, 2000, the Commission staff issued a draft environmental assessment (DEA) for the project and requested that comments be filed with the Commission within 45 days. Comments on the DEA were filed by Walter D. Gildner, Indiana Department of Natural Resources, American Electric Power/ Indiana Michigan Power Company, and the City of Elkhart and are addressed in the FEA.

Copies of the FEA are available for review at the Commission's Public Reference Room, located at 888 First Street, N.E., Washington, D.C. 20426, or by calling (202) 208-1371. The FEA may be viewed on the web at http://www.ferc.fed.us/online/rims.htm [please call (202) 208-2222 for assistance].

David P. Boergers,
Secretary.

[FR Doc. 00-31421 Filed 12-8-00; 8:45 am]

BILLING CODE 6717-01-M